DEPARTMENT OF COMMERCE

National Oceanic and Atmospheric Administration

RIN 0648-XE024

New England Fishery Management Council; Public Meeting

AGENCY: National Marine Fisheries Service (NMFS), National Oceanic and Atmospheric Administration (NOAA), Commerce.

ACTION: Notice; public meetings.

SUMMARY: The New England Fishery Management Council (Council) is scheduling a public meeting of its Herring Committee to consider actions affecting New England fisheries in the exclusive economic zone (EEZ). Recommendations from this group will be brought to the full Council for formal consideration and action, if appropriate.

DATES: This meeting will be held on Wednesday, July 22, 2015 at 9:30 a.m.

ADDRESSES:

Meeting address: The meeting will be held at the Four Points by Sheraton (formerly Sheraton Colonial), 1 Audubon Road, Wakefield, MA 01880; telephone: (781) 245-9300; fax: (781) 245-0842.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The committee plans to address elements of 2016-2018 Atlantic herring fishery specifications, including the specification of management uncertainty, the stockwide Atlantic herring annual catch limit (ACL), domestic annual harvesting (DAH), domestic annual processing (DAP), U.S. at-sea processing (USAP), Border Transfer (BT), fixed gear set-aside (FGSA), and Research Set-Aside (RSA). They also plan to develop options (as appropriate) for 2016-2018 Atlantic herring sub-ACLs (by management area) and gear/area catch caps for river herring and shad (RH/S). The committee will develop recommendations for seasonal sub-ACLs in any management areas. Additionally, they will discuss and develop options (as appropriate) to modify management measures related to Atlantic herring RSAs. Other business will be discussed as necessary.

Although non-emergency issues not contained in this agenda may come before these groups for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: June 30, 2015.
Tracey L. Thompson,
Acting Deputy Director, Office of Sustainable Fisheries, National Marine Fisheries Service.

[FR Doc. 2015-16564 Filed 7-6-15; 8:45 am]

BILLING CODE 3510-22-P